FEDERAL ELECTION COMMISSION

Sunshine Act; Meeting

* * * * *

Date and Time: Thursday, March 25, 2004, 10 a.m.

Place: 999 E Street, NW., Washington, DC (Ninth Floor).

Status: This meeting will be open to the public. The following item has been added to the agenda:

Matching and Fund Entitlement—Rev. Alfred C. Sharpton/Sharpton 2004

FOR FURTHER INFORMATION CONTACT: Robert Biersack, Acting Press Officer, Telephone (202) 694-1220.

Mary W. Dove,
Secretary of the Commission.

[FR Doc. 04-6426 Filed 3-18-04; 11:03 am]

BILLING CODE 6715-01-M